DEPARTMENT OF TRANSPORTATION

National Highway Traffic Safety Administration

[Docket No. NHTSA-2017-0062; Notice 2]

Final Decision That Certain Canadian-Certified Vehicles Are Eligible for Importation

AGENCY: National Highway Traffic Safety Administration (NHTSA), U.S. Department of Transportation (DOT).

ACTION: Final decision.

SUMMARY: This document announces a final decision by NHTSA that certain vehicles that do not comply with all applicable Federal motor vehicle safety standards (FMVSS), but that are certified by their original manufacturer as complying with all applicable Canadian motor vehicle safety standards (CMVSS), are nevertheless eligible for importation into the United States. The vehicles in question either (1) are substantially similar to vehicles that were certified by their manufacturers as complying with the U.S. safety standards and are capable of being readily altered to conform to those standards, or (2) have safety features that comply with, or are capable of being altered to comply with, all U.S. safety standards.

DATE: This decision is applicable on January 3, 2018.

FOR FURTHER INFORMATION CONTACT: Mr. Neil Thurgood, Office of Vehicle Safety Compliance, NHTSA, 1200 New Jersey Avenue SE, Washington, DC 20590. Telephone: (202) 366-0712.

SUPPLEMENTARY INFORMATION:

Background

Under 49 U.S.C. 30141(a)(1)(A), a motor vehicle that was not originally manufactured to conform to all applicable FMVSS shall be refused admission into the United States unless NHTSA has decided, either pursuant to a petition from the manufacturer or registered importer or on its own initiative, (1) that the nonconforming motor vehicle is substantially similar to a motor vehicle of the same model year that was originally manufactured for importation into and sale in the United States and certified by its manufacturer as complying with all applicable FMVSS, and (2) that the nonconforming motor vehicle is capable of being readily altered to conform to all applicable FMVSS. Where there is no substantially similar U.S. certified motor vehicle, 49 U.S.C. 30141(a)(1)(B) permits a nonconforming motor vehicle to be admitted into the United States if NHTSA decides that its safety features comply with, or are capable of being altered to comply with, all applicable FMVSS based on destructive test data or such other evidence as NHTSA decides to be adequate.

Tentative Decision

On October 24, 2017, NHTSA published a notice in the Federal Register announcing that it had made a tentative decision that certain motor vehicles that are certified by their original manufacturer as complying with all applicable CMVSS are eligible for importation into the United States (82 FR 49260). The notice identified these vehicles as:

(a) All passenger cars manufactured on or after September 1, 2017, and before May 1, 2018, that as originally manufactured, comply with FMVSS Nos. 138, 201, 206, 208, 213, 214, 225, and insofar as it is applicable, with FMVSS No. 226;

(b) All passenger cars manufactured on or after May 1, 2018, and before September 1, 2022, that as originally manufactured, comply with FMVSS Nos. 111, 138, 201, 206, 208, 213, 214, 225, and insofar as it is applicable, with FMVSS No. 226;

(c) All multipurpose passenger vehicles, trucks, and buses with a gross vehicle weight rating (GVWR) of 4,536 kg (10,000 lb) or less manufactured on or after September 1, 2017, and before May 1, 2018, that as originally manufactured, comply with FMVSS Nos. 138, 201, 206, 208, 213, and 214, and insofar as they are applicable, with FMVSS Nos. 222, 225, and, 226;

(d) All multipurpose passenger vehicles, trucks, and buses with a GVWR of 4,536 kg (10,000 lb) or less manufactured on or after May 1, 2018, and before September 1, 2022, that as originally manufactured, comply with FMVSS Nos. 111, 138, 201, 206, 208, 213, and 214, and insofar as they are applicable, with FMVSS Nos. 222, 225, and 226; and

(e) All multipurpose passenger vehicles, trucks, and buses with a GVWR greater than 4,536 kg (10,000 lb) manufactured on or after August 1, 2019, and before September 1, 2022, that as originally manufactured, comply with FMVSS No. 136 insofar as it is applicable.

The reader is referred to the October 24 notice for a full discussion of the factors leading to the tentative decision. The notice included tables that summarize the current state of harmonization between the CMVSS and the FMVSS. For the convenience of the reader, those tables are set out below. Table 1 is a list of all FMVSS that are harmonized to the CMVSS, or for which the differences are such that compliance with the U.S. standard can be readily achieved. Table 2 is a list of all FMVSS that are not harmonized.

Table 1—Harmonized Standards
U.S. standard (FMVSS) | Canadian equivalent (CMVSS)
102—Transmission Shift Position Sequence, Starter Interlock, and Transmission Braking Effect | CMVSS 102—Transmission Control Functions.
103—Windshield Defrosting and Defogging Systems | CMVSS 103—Windshield Defrost and Defog.
104—Windshield Wiping and Washing Systems | CMVSS 104—Windshield Wiping and Wash.
105—Hydraulic and Electric Brake Systems | CMVSS 105—Hydraulic and Electric Brakes; TSD 105.
106—Brake Hoses | CMVSS 106—Brake Hoses; TSD 106.
108—Lamps, Reflective Devices and Associated Equipment | CMVSS 108—Lighting Systems and Retroreflective Devices; TSD 108.
110—Tire Selection and Rims for Motor Vehicles with a GVWR of 4,536 kg (10,000) lb) or Less | CMVSS 110—Tire Selection and Rims; TSD 110.
113—Hood Latch Systems | CMVSS 113—Hood Latch System.
114—Theft Protection and Rollaway Prevention | CMVSS 114—Locking and Immobilization; TSD 114.
116—Motor Vehicle Brake Fluids | CMVSS 116—Hydraulic Brake Fluids; TSD 116.
118—Power-Operated Window, Partition, and Roof Panel Systems | CMVSS 118—Power-operated Windows; TSD 118.
120—Tire Selection and Rims and Motor Home/Recreation Vehicle Trailer Load Carrying Capacity Information for Motor Vehicles with a GVWR of More Than 4,536 Kilograms (10,000 pounds) | CMVSS 120—Tire Selection and Rims for Vehicles Other Than Passenger Cars; TSD 120.
121—Air Brake Systems | CMVSS 121—Air Brakes for Trucks; TSD 121.
122—Motorcycle Brake Systems | CMVSS 122—Motorcycle Brake Systems; TSD 122.
123—Motorcycle Controls and Displays | CMVSS 123—Motorcycle Control & Displays; TSD 123.
124—Accelerator Control Systems | CMVSS 124—Accelerator Control Systems; TSD 124.
126—Electronic Stability Control Systems | CMVSS 126—Electronic Stability Control; TSD 126.
131—School Bus Pedestrian Safety Devices | CMVSS 131—School Bus Pedestrian Safety Devices; TSD 131.
135—Light Vehicle Brake Systems | CMVSS 135—Light Vehicle Brake Systems; TSD 135.
202—Head Restraints; Applicable unless a vehicle is certified to § 571.202a | CMVSS 202—Head Restraints; TSD 202.
202a—Head Restraints | CMVSS 202—Head Restraints; TSD 202.
203—Impact protection for the driver from the steering control system | CMVSS 203—Driver Impact Protection.
204—Steering control rearward displacement | CMVSS 204—Steering Column Rearward Displacement.
205—Glazing materials | CMVSS 205—Glazing Materials.
205a—Glazing materials before September 1, 2006 and glazing materials used in vehicles manufactured before November 1, 2006 | CMVSS 205—Glazing Materials.
207—Seating systems | CMVSS 207—Anchorage of Seats.
210—Seat belt assembly anchorages | CMVSS 210—Seat Belt Assembly Anchorages.
212—Windshield mounting | CMVSS 212—Windshield Mounting.
216—Roof crush resistance; Applicable unless a vehicle is certified to § 571.216a | CMVSS 216—Roof Intrusion Protection; TSD 216.
216a—Roof crush resistance; Upgraded standard | CMVSS 216—Roof Intrusion Protection; TSD 216.
217—Bus emergency exits and window retention and release | CMVSS 217—Bus Window Retention and Emergency Exits.
219—Windshield zone intrusion | CMVSS 219—Windshield Zone Intrusion.
220—School bus rollover protection | CMVSS 220—Rollover Protection; TSD 220.
221—School bus body joint strength | CMVSS 221—School Bus Body Joint Strength.
224—Rear impact protection | CMVSS 223—Rear Impact Guards.
301—Fuel system integrity | CMVSS 301—Fuel System Integrity; TSD 301.
302—Flammability of interior materials | CMVSS 302—Flammability; TSD 302.
303—Fuel system integrity of compressed natural gas vehicles | CMVSS 301.2—CNG Fuel System Integrity.
304—Compressed natural gas fuel container integrity | CMVSS 301.2—CNG Fuel System Integrity.
305—Electric-powered vehicles: electrolyte spillage and electrical shock protection | CMVSS 305—Electrolyte Spillage and Electrical Shock Protection; TSD 305.
401—Internal trunk release | CMVSS 401—Interior Trunk Release; TSD 401.
500—Low-speed vehicles | CMVSS 500—Low-speed Vehicles; TSD 500.

Table 2—Standards That Have Not Been Harmonized
[X denotes “applicable”]
U.S. standard (FMVSS) | Canadian standard (CMVSS) | Passenger cars | Multipurpose passenger vehicles, trucks, and buses with a GVWR of 4,536 Kg (10,000 Lb) or less
FMVSS 101—Controls and Displays | CMVSS 101—Controls and Displays | X | X
FMVSS 111—Rear Visibility | CMVSS 111—Mirrors | X | X
FMVSS 136—Electronic Stability Control Systems for Heavy Vehicles |  |  | Trucks/buses with GVWR greater than 11,793 Kg (26,000 lb) only
FMVSS 138—Tire Pressure Monitoring Systems |  | X | X
FMVSS 201—Occupant Protection in Interior Impact | CMVSS 201—Occupant Protection | X | X
FMVSS 206—Door locks and door retention components | CMVSS 206—Door Locks and Door Retention Components | X | X
FMVSS 208—Occupant Crash Protection | CMVSS 208—Occupant Restraint Frontal Impact | X | X
FMVSS 213—Child Restraint Systems | CMVSS 213.4—Built-in Child Restraint Systems | X | X
FMVSS 214—Side Impact Protection | CMVSS 214—Side Door Strength | X | X
FMVSS 222—School Bus Passenger Seating And Crash Protection | CMVSS 222—School Bus Passenger Seating and Crash Protection |  | School buses only
FMVSS 225—Child restraint anchorage systems |  | X | X
FMVSS 226—Ejection Mitigation |  | X | X

In accordance with 49 U.S.C. 30141(b), the October 24 notice solicited public comments on the tentative decision. No pertinent comments were submitted in response to the notice. Accordingly, NHTSA is adopting the tentative decision as a final decision.

Final Decision

In consideration of the foregoing, NHTSA hereby decides that—

(a) All passenger cars manufactured on or after September 1, 2017, and before May 1, 2018, that as originally manufactured, comply with FMVSS Nos. 138, 201, 206, 208, 213, 214, 225, and insofar as it is applicable with FMVSS No. 226;

(b) All passenger cars manufactured on or after May 1, 2018, and before September 1, 2022, that as originally manufactured, comply with FMVSS Nos. 111, 138, 201, 206, 208, 213, 214, 225, and insofar as it is applicable, with FMVSS No. 226;

(c) All multipurpose passenger vehicles, trucks, and buses with a GVWR of 4,536 kg (10,000 lb) or less manufactured on or after September 1, 2017, and before May 1, 2018, that as originally manufactured, comply with FMVSS Nos. 138, 201, 206, 208, 213, and 214, and insofar as they are applicable, with FMVSS Nos. 222, 225, and, 226;

(d) All multipurpose passenger vehicles, trucks, and buses with a GVWR of 4,536 kg (10,000 lb) or less manufactured on or after May 1, 2018, and before September 1, 2022, that as originally manufactured, comply with FMVSS Nos. 111, 138, 201, 206, 208, 213, and 214, and insofar as they are applicable, with FMVSS Nos. 222, 225, and 226; and

(e) All multipurpose passenger vehicles, trucks, and buses with a GVWR greater than 4,536 kg (10,000 lb) manufactured on or after August 1, 2019, and before September 1, 2022, that as originally manufactured, comply with FMVSS No. 136 insofar as it is applicable; that are certified by their original manufacturer as complying with all applicable CMVSS, are eligible for importation into the United States on the basis that either:

1. They are substantially similar to vehicles of the same make, model, and model year originally manufactured for importation into and sale in the United States, or originally manufactured in the United States for sale therein, and certified as complying with all applicable FMVSS, and are capable of being readily altered to conform to all applicable FMVSS, or

2. They have safety features that comply with, or are capable of being altered to comply with, all applicable FMVSS.

Vehicle Eligibility Number

In order to import a vehicle made admissible under any final decision, the importer must indicate to U.S. Customs and Border Protection that the vehicle has been determined eligible for importation. This is done by indicating the eligibility number, published under that final decision, on DOT declaration form HS-7. Vehicle Eligibility Number VSA-80 is currently assigned to Canadian-certified passenger cars, Vehicle Eligibility Number VSA-81 is currently assigned to Canadian-certified multipurpose passenger vehicles, trucks, and buses with a GVWR of 4,536 kg (10,000 lb) or less, and Vehicle Eligibility Number VSA-82 is currently assigned to Canadian-certified multipurpose passenger vehicles, trucks, and buses with a GVWR greater than 4,536 kg (10,000 lb). All passenger cars admissible under this decision will be assigned Vehicle Eligibility Number VSA-80, all multipurpose passenger vehicles, trucks, and buses with a GVWR of less than 4,536 kg (10,000 lb) admissible under this decision will be assigned Vehicle Eligibility Number VSA-81, and all multipurpose passenger vehicles, trucks, and buses with a GVWR greater than 4,536 kg (10,000 lb) admissible under this decision will be assigned Vehicle Eligibility Number VSA-82.

Authority: 49 U.S.C. 30141(a)(1)(A), (a)(1)(B), and (b)(1); 49 CFR 593.8; delegation of authority at 49 CFR 1.95.

Heidi R. King,
Deputy Administrator.

[FR Doc. 2017-28391 Filed 1-2-18; 8:45 am]

BILLING CODE 4910-59-P